DEPARTMENT OF HOUSING AND URBAN DEVELOPMENT

[Docket No. FR-7011-N-43]

30-Day Notice of Proposed Information Collection: Public Housing Agency (PHA) 5-Year and Annual Plan

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 29, 2019.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW, (L'Enfant Plaza, Room 2206), Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: This notice informs the public that HUD is seeking approval from OMB for the information collection described in Section A. The Federal Register notice that solicited public comments on the information for a period days was published on October 9, 2018.

A. Overview of Information Collection

Title of Information Collection: Public Housing Agency (PHA) 5-Year and Annual Plan.

OMB Approval Number: 2577-0226.

Type of Request: Reinstatement with change, of previously approved collection of which approval has expired.

Form Number(s): HUD-50075-5Y, HUD-50075-ST, HUD-50075-SM, HUD-50075 HCV, HUD-50075-HP, HUD-50077-CR, HUD-50077-SL, HUD-50077-CRT-SM, and HUD-50077-ST-HCV-HP.

Description of the need for the information and proposed use:

Under the provisions of Section 3507(a)(1)(D) of the Paperwork Reduction Act of 1995, the Department of Housing and Urban Development (HUD) has submitted to the Office of Management and Budget (OMB) a request to review and approve the information collection listed below. This proposed information collection was previously published in the Federal Register on October 09, 2018 (FR 83, 50676) and allowed 60-days for public comment. Four public comments were received, and responses were sent. The comments referenced the challenges of including the Moving to Work (MTW) Supplement in the Annual Pubic Housing Agency (PHA) Plan process for PHAs that join MTW under the 2016 Appropriations Act (i.e., MTW Expansion) as well as certain changes proposed to the original PHA Plan templates and certifications. Due to the MTW Supplement undergoing significant revisions, all references to it has been withdrawn from the collection for now and will be added again at a later time. The purpose of this notice is to allow an additional 30 days for public comment on the original PHA Plan Templates and certifications alone.

The PHA Plan was created by section 5A of the United States Housing Act of 1937 (42 U.S.C. 1437c-1). There are two different PHA Plans: The Five-Year Plan and the Annual Plan. The Five-Year Plan describes the agency's mission, long-range goals and objectives for achieving its mission over a five-year period. The Annual PHA Plan is a comprehensive guide to PHA policies, programs, operations, and strategies for meeting local housing needs and goals each fiscal year.

The PHA Plans informs HUD, residents, and the public of the PHA's goals, programs, and activities for serving the housing needs of low, very low-income, and extremely low-income families and its strategy for addressing those needs. This information helps hold PHAs accountable to HUD, residents, and the local community for how PHAs intend to spend their funding and operate their programs. Also, PHA Plans allow HUD to review the PHA's proposed changes in the administration and operation of HUD-funded housing programs.

In July 2016, HUD revised the collection in response to public comments urging HUD to return to earlier multiple versions of the PHA Plan template and certifications by PHA type (e.g., standard, small, high performer, Housing Choice Voucher/HCV-only) instead of a “One-Size Fits All” form. Also, HUD added a section to accommodate new requirements for PHAs under the Affirmatively Furthering Fair Housing (AFFH) Rule, to reflect other public comments from 2013, and implement a minor change made in late 2014. OMB approved these changes, but the 2016 versions of the forms were not made public due to the Department's review of AFFH Rule implementation activities.

With this current proposed information collection, HUD intends to further modify the 5-Year and Annual PHA Plan Templates, as well as the accompanying certification forms in the following manner:

(1) Revise the instructions provided on items related to the AFFH Rule, reflecting that, until HUD approves a revised Assessment of Fair Housing (AFH) Tool and template, PHAs would not be specifying fair housing strategies actions in their PHA Plans. Instead, PHAs would rely on their corresponding community's Analysis of Impediments (AI) to fair housing until choice and undertake activities to support their civil rights certification specified in PHA Plan regulations promulgated prior to August 17, 2015. (See Federal Register Notice 5173-N-17 (May 23, 2018).)

(2) Revise PHA certifications to bring them up to date with HUD program and AFFH requirements, and to give PHAs an optional blank answer section to explain how they are not able to certify compliance with civil rights authorities and certain specific requirements.

(3) Revise the introductory text and signature blocks on certification forms to distinguish the PHA Executive Director (ED) and Board Chairperson.

In addition, it should be noted that, due to the de-coupling of reporting on Capital Fund Program activities and plans from PHA Plan submissions in 2016, (i.e., Form HUD-50075.1 and Form HUD-50075.2 Capital Fund Annual Statement/Performance and Evaluation Report and 5-Year Action Plan forms), the burden hours associated with these two forms (10,070) as reflected in the estimate under OMB no. 2577-0226 were removed.

Finally, revisions to the reporting burden reflect a reduction in the total number of, active PHAs. The number of active public housing agencies has changed from 3,819 to 3,780 since the last approved information collection. The number of PHAs can fluctuate due to many factors, including but not limited to performance scoring, the merging of two or more PHAs or the termination of a PHA's public and other assisted housing programs due to conversion under the Rental Assistance Demonstration (RAD).

Respondents (i.e., affected public): Local, Regional and State Body Corporate Politic Public Housing Agencies (PHAs) Governments.

Estimated Number of Respondents: 3,780.

Estimated Number of Responses: 4,838.40.

Frequency of Response: 1.28.

Average Hours per Response: 2.70.

Total Estimated Burden: 13,063.68.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of automated data collection techniques or other forms of information technology, such as electronic submission of responses.

HUD encourages interested parties to submit comment in response to these questions.

C. Authority

Section 3507 of the Paperwork Reduction Act of 1995, 44 U.S.C. Chapter 35.

Dated: October 16, 2019.
Colette Pollard,
Department Reports Management Officer, Office of the Chief Information Officer.

[FR Doc. 2019-23701 Filed 10-29-19; 8:45 am]

BILLING CODE 4210-67-P